DEPARTMENT OF TRANSPORTATION

Federal Aviation Administration

14 CFR Part 39

[Docket No. 2001-NM-259-AD]

RIN 2120-AA64

Airworthiness Directives; Boeing Model 767 Series Airplanes

AGENCY: Federal Aviation Administration, DOT.

ACTION: Notice of proposed rulemaking (NPRM).

SUMMARY: This document proposes the supersedure of an existing airworthiness directive (AD), applicable to certain Boeing Model 767 series airplanes, that currently requires a one-time inspection to detect abrasion damage and installation discrepancies of the wire bundles located below the P37 panel, and corrective action if necessary. For airplanes already subject to the existing AD, this action would require inspecting to determine whether the existing location of a certain wire support standoff is adequate, relocating the wire support standoff if necessary, installing protective sleeving over the wire bundles, and installing wire bundle support clamps if necessary. This action also would expand the applicability of the existing AD to include additional airplanes, and require inspecting the sleeving on certain wire bundles, and accomplishing corrective action if necessary, on those airplanes. The actions specified in this proposed AD are intended to detect and prevent abrasion damage and correct installation discrepancies of the wire bundles located below the P37 panel, which could result in arcing to structure and consequent fire or loss of function of affected systems.

DATES: Comments must be received by April 17, 2003.

ADDRESSES: Submit comments in triplicate to the Federal Aviation Administration (FAA), Transport Airplane Directorate, ANM-114, Attention: Rules Docket No. 2001-NM-259-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-259-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Elias Natsiopoulos, Aerospace Engineer, Systems and Equipment Branch, ANM-130S, FAA, Seattle Aircraft Certification Office, 1601 Lind Avenue, SW., Renton, Washington 98055-4056; telephone (425) 917-6478; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-259-AD.” The postcard will be date stamped and returned to the commenter.

Availability of NPRMs

Any person may obtain a copy of this NPRM by submitting a request to the FAA, Transport Airplane Directorate, ANM-114, Attention: Rules Docket No. 2001-NM-259-AD, 1601 Lind Avenue, SW., Renton, Washington 98055-4056.

Discussion

On November 15, 2001, the FAA issued AD 2001-17-28 R1, amendment 39-12510 (66 FR 58924, November 26, 2001), applicable to certain Boeing Model 767 series airplanes, to require a one-time inspection to detect abrasion damage and installation discrepancies of the wire bundles located below the P37 panel, and corrective action if necessary. That action was prompted by findings of abrasion damage and installation discrepancies of these wire bundles on certain Boeing Model 767 series airplanes. The requirements of that AD are intended to detect and correct such abrasion damage and installation discrepancies, which could result in arcing to structure and consequent fire or loss of function of affected systems.

In the preamble to AD 2001-17-28 R1, we indicated that the actions required by that AD were considered “interim action” and that further rulemaking action was being considered to add requirements to relocate the wire support standoff and install protective sleeving over the wire bundles, and to expand the applicability of the AD to include certain additional airplanes. We have now determined that further rulemaking action is indeed necessary, and this proposed AD follows from that determination.

Explanation of Relevant Service Information

We have previously reviewed and approved Boeing Alert Service Bulletins 767-24A0134 (for Model 767-200 and -300 series airplanes) and 767-24A0135 (for Model 767-400ER series airplanes), both Revision 1, both dated October 18, 2001. AD 2001-17-28 R1 refers to those alert service bulletins as appropriate sources of service information for the actions required by that AD. Those alert service bulletins identify two “Work Packages,” and two groups of airplanes. Work Package 1 describes procedures for the actions that are currently required by AD 2001-17-28 R1 for airplanes listed in Group 1 in the alert service bulletins. Work Package 2, for Group 1 airplanes, describes procedures for performing an inspection to determine whether the existing location of a certain wire support standoff is adequate and whether a grommet is installed and not damaged (e.g., chafed), installing a new grommet if not already installed or if the existing grommet is damaged, relocating the wire support standoff if necessary, installing protective sleeving over certain wire bundles, and installing wire bundle support clamps. Work Package 2, for Group 2 airplanes, describes procedures for inspecting certain wire bundles to determine the type of protective sleeving that is installed and the location of that sleeving, relocating protective sleeving or replacing it with new sleeving if necessary, and installing wire bundle support clamps if necessary. The alert service bulletins specify to make sure that wire bundles are installed inboard/above the insulation blankets when wire bundle support clamps are installed. Accomplishment of the actions specified in the applicable alert service bulletin is intended to adequately address the identified unsafe condition.

Explanation of Requirements of Proposed Rule

Since an unsafe condition has been identified that is likely to exist or develop on other products of this same type design, the proposed AD would supersede AD 2001-17-28 R1 to continue to require a one-time inspection to detect abrasion damage and installation discrepancies of the wire bundles located below the P37 panel, and corrective action if necessary. The proposed AD would also require, for airplanes already subject to the existing AD, inspecting to determine whether the existing location of a certain wire support standoff is adequate, relocating the wire support standoff if necessary, and installing protective sleeving over the wire bundles. On airplanes not included in the applicability of the existing AD, the proposed AD would require inspecting the protective sleeving on certain wire bundles, and corrective action if necessary. The actions would be required to be accomplished in accordance with the alert service bulletin described previously, except as discussed under the heading, “Difference Between Proposed AD and Alert Service Bulletins.”

In developing an appropriate compliance time for this AD, we considered not only the manufacturer's recommendation, but the degree of urgency associated with addressing the subject unsafe condition, the average utilization of the affected fleet, and the time necessary to perform the proposed actions. In light of all of these factors, we find an 18-month compliance time for completing the new proposed actions to be warranted, in that it represents an appropriate interval of time allowable for affected airplanes to continue to operate without compromising safety.

Explanation of Change Made To Existing Requirements

We have changed all references to a “detailed visual inspection” in the existing AD to “detailed inspection” in this proposed AD.

Also, we have changed the alert service bulletin citations throughout this proposed AD to exclude the Evaluation Form. The airplane manufacturer intends for operators to complete and submit this form to provide input on the quality of the alert service bulletin. However, this proposed AD would not include such a requirement.

Difference Between Proposed AD and Alert Service Bulletins

Operators should note that the instructions under Work Package 2 in the alert service bulletins do not specify what type of inspection is needed to determine whether the existing location of a certain wire support standoff is adequate (Group 1 airplanes), or to determine the type of protective sleeving that is installed and the location of that sleeving (Group 2 airplanes). We have determined that a detailed inspection is necessary to make these determinations.

Cost Impact

There are approximately 839 airplanes of the affected design in the worldwide fleet. We estimate that 325 airplanes of U.S. registry would be affected by this proposed AD.

The inspection that is currently required by AD 2001-17-28 R1 takes approximately 2 work hours per airplane to accomplish, at an average labor rate of $60 per work hour. Based on these figures, the cost impact of the currently required actions on U.S. operators is estimated to be $39,000, or $120 per airplane.

For airplanes in both Groups 1 and 2 as listed in the alert service bulletins, the new proposed actions would take approximately 2 work hours per airplane to accomplish, at an average labor rate of $60 per work hour. The cost of required parts would be negligible. Based on these figures, the cost impact of the new proposed requirements on U.S. operators is estimated to be $39,000, or $120 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12510 (66 FR 58924, November 26, 2001), and by adding a new airworthiness directive (AD), to read as follows:

Boeing: Docket 2001-NM-259-AD. Supersedes AD 2001-17-28 R1, amendment 39-12510.

Applicability: Model 767 airplanes, certificated in any category, line numbers (L/Ns) 1 through 853 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c)(1) of this AD. The request should include an assessment of the effect of the modification, alteration, or repair on the unsafe condition addressed by this AD; and, if the unsafe condition has not been eliminated, the request should include specific proposed actions to address it.

Compliance: Required as indicated, unless accomplished previously.

To detect and prevent abrasion damage and correct installation discrepancies of the wire bundles located below the P37 panel, which could result in arcing to structure and consequent fire or loss of function of affected systems, accomplish the following:

Requirements of AD 2001-17-28 R1

Inspection for Damage and Installation Discrepancies

(a) For airplanes with L/Ns 1 through 815 inclusive: Within 90 days after September 13, 2001 (the effective date of AD 2001-17-28, amendment 39-12419), perform a one-time detailed inspection of the wire bundles located below the P37 panel to detect abrasion damage and wire installation discrepancies (including missing standoffs; missing, chafed, or loose cable clamps; chafed grommets; and wire bundles located beneath an insulation blanket), in accordance with Boeing Alert Service Bulletin 767-24A0134, excluding Evaluation Form, dated March 15, 2001, or Revision 1, excluding Evaluation Form, dated October 18, 2001 (for Model 767-200 and -300 series airplanes); or 767-24A0135, excluding Evaluation Form, dated March 15, 2001, or Revision 1, excluding Evaluation Form, dated October 18, 2001 (for Model 767-400ER series airplanes). If any damage or other discrepancy is found, prior to further flight, perform corrective actions in accordance with the applicable alert service bulletin. After December 11, 2001 (the effective date of AD 2001-17-28 R1, amendment 39-12510), only Revision 1 of the alert service bulletins may be used.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of This AD

(b) Within 18 months after the effective date of this AD, do all actions in Work Package 2 of Boeing Alert Service Bulletin 767-24A0134 (for Model 767-200 and -300 series airplanes) or 767-24A0135 (for Model 767-400ER series airplanes), both Revision 1, both excluding Evaluation Form, both dated October 18, 2001, as applicable, in accordance with the Accomplishment Instructions of the applicable alert service bulletin. For Group 1 airplanes, the procedures in Work Package 2 include performing a detailed inspection to determine whether the location of the wire support standoff for wire bundle W298 is adequate and whether a grommet is installed and not damaged (e.g., chafed), installing a new grommet if not already installed or if the existing grommet is damaged, relocating the wire support standoff as applicable, installing protective sleeving over certain wire bundles, and installing wire bundle support clamps. When installing wire bundle support clamps, make sure that wire bundles are installed inboard/above the insulation blankets. For Group 2 airplanes, the procedures in Work Package 2 include performing a detailed inspection of the sleeving on wire bundles W298, W235, and W2130, as applicable, to determine the type of protective sleeving installed and the location of that sleeving, relocating the sleeving or replacing the sleeving with new sleeving as applicable, and installing wire bundle support clamps as applicable. When installing wire bundle support clamps, make sure that wire bundles are installed inboard/above the insulation blankets.

Alternative Methods of Compliance

(c)(1) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

(2) Alternative methods of compliance, approved previously in accordance with AD 2001-17-28 R1, amendment 39-12510, are approved as alternative methods of compliance with the corresponding requirements of this AD.

Note 3: Information concerning the existence of approved alternative methods of compliance with this AD, if any, may be obtained from the Seattle ACO.

Special Flight Permits

(d) Special flight permits may be issued in accordance with §§ 21.197 and 21.199 of the Federal Aviation Regulations (14 CFR 21.197 and 21.199) to operate the airplane to a location where the requirements of this AD can be accomplished.

Issued in Renton, Washington, on February 24, 2003.
Vi L. Lipski,
Manager, Transport Airplane Directorate, Aircraft Certification Service.

[FR Doc. 03-4842 Filed 2-28-03; 8:45 am]

BILLING CODE 4910-13-P